AGENCY FOR INTERNATIONAL DEVELOPMENT

Nondiscrimination on the Basis of Sex in Education Programs or Activities Receiving Federal Financial Assistance

AGENCY: U.S. Agency for International Development (USAID).

ACTION: Notice of U.S. Agency for International Development Financial Assistance Subject to Title IX of the Education Amendments of 1972, as amended.

SUMMARY: In accordance with Subpart F of the final common rule for the enforcement of Title IX of the Education Amendments of 1972, as amended (“Title IX”), this notice lists federal financial assistance administered by USAID that is covered by Title IX. Title IX prohibits recipients of federal financial assistance from discriminating on the basis of sex in education programs or activities. Subpart F of the Title IX common rule requires each federal agency that awards federal financial assistance to publish in the Federal Register a notice of the federal financial assistance covered by the Title IX regulations within sixty (60) days after the effective date of the final common rule. The final common rule for the enforcement of Title IX was published in the Federal Register by twenty-one (21) federal agencies, including USAID, on August 30, 2000, 65 FR 52857-52895). USAID's portion of the final common rule will be codified at 22 CFR part 229.

SUPPLEMENTARY INFORMATION: Title IX prohibits recipients of federal financial assistance from discriminating on the basis of sex in educational programs or activities. Specifically, the statute states that “[n]o person in the United States shall, on the basis of sex, be excluded from participation in, be denied the benefits of, or be subjected to discrimination under any education program or activity receiving Federal financial assistance,” with specific exceptions for various entities, programs, and activities. 20 U.S.C. 1681(a). Title IX and the Title IX common rule prohibit discrimination on the basis of sex in the operation of, and the provision or denial of benefits by, education programs or activities conducted not only by educational institutions but by other entities as well.

List of Federal Financial Assistance Administered by the U.S. Agency for International Development to Which Title IX Applies

Note: All domestic recipients of federal financial assistance from USAID are subject to Title IX, but Title IX's anti-discrimination prohibitions are limited to the educational components of the recipient's program or activity, if any.

Failure to list a type of federal assistance below shall not mean, if Title IX is otherwise applicable, that a program or activity is not covered by Title IX.

The following types of federal financial assistance were derived from Appendix A of USAID's regulations effectuating Title VI of the Civil Rights Act of 1964, 22 U.S.C. Part 209, and section 504 of the Rehabilitation Act of 1973, 22 U.S.C. Part 217.

1. Assistance provided to organizations and institutions to carry on programs of technical cooperation and development in the United States to promote the economic development of less developed friendly countries.

2. Assistance provided to organizations and institutions to carry on programs of technical cooperation and development in the United States to promote the economic development of the less developed friendly countries of Latin America.

3. Assistance provided to organizations and institutions to carry out programs in the United States of research into, and evaluation of, economic development in less developed foreign countries.

4. Assistance provided to research and educational institutions in the United States to strengthen their capacity to develop and carry out programs or activities concerned with the economic and social development of developing countries.

5. Assistance provided to land grant and other qualified agricultural universities and colleges in the United States to develop their capabilities to assist developing countries in agricultural teaching, research and extension services.

6. Assistance provided to private and voluntary agencies, non-profit organizations, educational institutions and other qualifieid organizations for programs or activities in the United States to promote the economic and social development of developing countries.

7. Assistance provided to private and voluntary agencies, non-profit organizations, educational institutions and other qualified organizations for programs or activities in the United States to promote the use of lessons learned from USAID economic and social development programs in developing countries.

Dated: November 28, 2000.
Jessalyn L. Pendarvis,
Director, Office of Equal Opportunity Programs, USAID.

[FR Doc. 00-31257 Filed 12-7-00; 8:45 am]

BILLING CODE 6116-01-M